NUCLEAR REGULATORY COMMISSION

Advisory Committee on Reactor Safeguards: Subcommittee Meeting on Thermal-Hydraulic Phenomena; Notice of Meeting

The ACRS Subcommittee on Thermal-Hydraulic Phenomena will hold a closed meeting on July 16-17, 2003, at Westinghouse Electric Company, 4350 Northern Pike, Monroeville, Pennsylvania.

The entire meeting will be closed to public attendance to discuss Westinghouse Electric Company LLC proprietary information per 5 U.S.C. 552b(c)(4).

The agenda for the subject meeting shall be as follows:

Wednesday, July 16, 2003—8:30 a.m. until the conclusion of business.

Thursday, July 17, 2003—8:30 a.m. until 12 noon.

The purpose of this meeting is to review the thermal-hydraulic aspects of the AP1000 design. The Subcommittee will hear presentations by and hold discussions with representatives of the NRC staff, Westinghouse Electric Company LLC, and other interested persons regarding this matter. The Subcommittee will gather information, analyze relevant issues and facts, and formulate proposed positions and actions, as appropriate, for deliberation by the full Committee.

For Further Information Contact: Mr. Ralph Caruso, Designated Federal Official (Telephone: 301-415-8065) between 7:30 a.m. and 4:15 p.m. (e.t.).

Dated: July 1, 2003.
Sher Bahadur,
Associate Director for Technical Support, ACRS/ACNW.

[FR Doc. 03-17185 Filed 7-7-03; 8:45 am]

BILLING CODE 7590-01-P